DEPARTMENT OF COMMERCE

National Oceanic and Atmospheric Administration

[I.D. 070605B]

Endangered and Threatened Species; Take of Anadromous Fish

AGENCY: National Marine Fisheries Service (NMFS), National Oceanic and Atmospheric Administration (NOAA), Commerce.

ACTION: Notice of availability and request for comment.

SUMMARY: Notice is hereby given that NMFS has prepared an environmental assessment (EA) of the impacts on the human environment of the potential issuance of scientific research and enhancement permit number 1530 relating to Pacific salmon. Permit 1530 would be issued jointly to the Washington Department of Fish and Wildlife, Nez Perce Tribe through the Bureau of Indian Affairs, and the Idaho Department of Fish and Game (Applicants) to operate the adult fish trap at Lower Granite Dam. This document serves to notify the public of the availability of the draft EA for review and comment before a final decision on whether to issue a Finding of No Significant Impact is made by NMFS. The proposed actions are intended to increase knowledge of species listed under the Endangered Species Act (ESA) and to help guide management and conservation efforts. It is also intended to facilitate collection of broodstock to supply an artificial propagation program designed to enhance the propagation and survival of threatened Snake River fall chinook salmon.

DATES: Comments or requests for public hearing on the application must be received at the appropriate address or fax number (see ADDRESSES) no later than 5 p.m. Pacific daylight time on August 15, 2005.

ADDRESSES: Written comments on the application should be sent to Salmon Recovery Division, NMFS, 10095 W. Emerald, Boise, ID 83704. Comments may be submitted by e-mail. The mailbox address for providing e-mail comments is LGRtrapNEPA.nwr@noaa.gov. Include in the subject line of the e-mail comment the following identifier: Comments on trapping at Lower Granite Dam. Comments may also be submitted via facsimile (fax) to (208) 378-5614.

FOR FURTHER INFORMATION CONTACT: Herb Pollard, Boise, ID, at phone number: (208)378-5699, e-mail: herbert.pollard@noaa.gov.

SUPPLEMENTARY INFORMATION:

Species Covered in This Notice

The following listed species and evolutionarily significant units (ESUs) are covered in this notice:

Chinook salmon (Oncorhynchus tshawytscha): threatened Snake River (SR) fall.

Chinook salmon (O. Tshawytscha): SR spring summer.

Steelhead (O. mykiss): threatened SR.

Background

NEPA requires Federal agencies to conduct an environmental analysis of their proposed actions to determine if the actions may affect the human environment. NMFS expects to take action on ESA section 10(a)(1)(A) submittals expected from the applicants. Therefore the Service is seeking public input on the scope of the required NEPA analysis, including the range of reasonalble alternatives and associated impacts of any alternatives.

The application for permit 1530 was previously made available for public comment. Anyone requesting a hearing on an application listed in this notice should set out the specific reasons why a hearing on that application would be appropriate (see ADDRESSES). The holding of such a hearing is at the discretion of the Assistant Administrator for Fisheries, NOAA. The Applicants are requesting a 5-year permit to take SR fall chinook salmon, SR spring/summer chinook salmon, and SR steelhead during the course of operating an adult fish trap a Lower Granite Dam on the Columbia River.

The proposed action is designed to address two purposes. The trapping activity is intended to capture a random sample of Snake River fall chinook salmon and collect the necessary biological data and observations to statistically generate a "run reconstruction", or description of composition of the entire fall chinook salmon migration, as it passes Lower Granite Dam, according to age, sex, and origin (hatchery or natural). The second purpose is to collect additional adult fall chinook salmon for broodstock needed to support enhancement actions at Lyons Ferry Hatchery and Nez Perce Tribal Hatchery. Incidental to the primary purposes, the program will help managers simultaneously monitor several ongoing activities in the basin (e.g., natural production of listed species and the operation of the Federal Columbia River hydropower system) as well as stray rates and population health for the two listed species. To achieve its purposes, the project includes four objectives: First, it is meant to capture SR fall chinook salmon so that they may be used for mitigation, compensation, and natural production. Second, it is intended to remove hatchery-origin fall chinook salmon originating from projects other than those in the Snake River Basin so that they do not spawn in the Snake River above Lower Granite Dam. Third, facilitate research efforts including the capture of fish to measure the relative reproductive success of hatchery fish being used for natural supplementation and thereby monitor the success of that program. Fourth, the captured steelhead will be used to monitor the staus of steelhead populations in the Snake River Basin.

Fish species will benefit in several ways. By providing broodstock for Lyons Ferry Hatchery and Nez Perce Tribal Hatchery, the program will continue its efforts in directly increasing the abundance of the listed stocks. Removing salmon that stray from other hatchery programs will reduce adverse ecological and genetic interactions and preserve the listed stock. Information from the captured steelhead is essential to monitor the satus and productivity of the listed populations, to help managers make decisions about how best to operate the hydro power system, and to gauge the effectiveness of a number of recovery efforts.

The fish would be captured at the Lower Granite Dam adult trap. When not directed into the trap, most fish pass the ladder unimpeded. Trapped fish are anesthetized, examined, biological samples are taken, and the fish are either (1) returned to the ladder to continue their upstream migration (all of the steelhead and most of the chinook salmon), (2) selected for broodstock (in the case of a portion of the hatchery-origin and natural-origin chinook salmon), or (3) removed from the population (all hatchery-origin chinook salmon that are identified by tags or marks as strays from other hatcheries). Transport to one of the hatchery facilities fish collected for broodstock occurs daily during peak run periods. Some natural-origin Snake River fall chinook salmon would be collected to integrate into the broodstock. Scale sampling may occur on-site prior to transport to the hatcheries. Once sampled, fish not collected for broodstock are allowed to recover in small tanks and then returned to the fish ladder to continue their upstream migration.

The general effects on the environment considered include the impacts on the physical, biological, and socioeconomic environments of the Snake River Basin.

Dated: July 12, 2005.
P. Michael Payne,
Acting Chief, Endangered Species Division, Office of Protected Resources, National Marine Fisheries Service.

[FR Doc. 05-13991 Filed 7-14-05; 8:45 am]

BILLING CODE 3510-22-S